NATIONAL AERONAUTICS AND SPACE ADMINISTRATION

[Notice (08-054)]

National Environmental Policy Act; Disposition of Space Shuttle Program's Real and Personal Property

AGENCY: National Aeronautics and Space Administration (NASA).

ACTION: Finding of no significant impact.

SUMMARY: Pursuant to the National Environmental Policy Act of 1969 (NEPA), as amended (42 U.S.C. 4321 et seq.), the Council on Environmental Quality (CEQ) Regulations for Implementing the Procedural Provisions of NEPA (40 CFR parts 1500-1508), and NASA policy and procedures (14 CFR Part 1216, Subpart 1216.3), NASA has made a Finding of No Significant Impact (FONSI) with respect to the disposition of the Space Shuttle Program's (SSP's) real and personal property using a structured process consisting of a coordinated series of actions. Under Presidential direction, NASA will cease operations of its SSP by 2010. A number of assets will be dispositioned during the transition and retirement (T&R) activities. NASA proposes to implement a structured process for the disposition of the SSP real and personal property consisting of a coordinated series of actions. SSP T&R activities would include potential retirement, transfer, and disposal of property. SSP property disposition activities would extend for several years beyond 2010. On January 14, 2004, President George W. Bush presented his Vision for U.S. Space Exploration (hereinafter “the Vision”) to the nation. Congress expressly endorsed the President's exploration initiative and provided additional direction for the initiative in the NASA Authorization Act of 2005. In announcing the Vision, the President directed NASA to use the Space Shuttle to fulfill its obligation to complete assembly of the International Space Station and then retire the Space Shuttle by 2010. Under Presidential direction, NASA will cease operations of its SSP activities at all locations, including Kennedy Space Center (KSC), Florida; Johnson Space Center (JSC), Ellington Field (EF), and El Paso Forward Operating Location (EPFOL), Texas; Stennis Space Center (SSC), Mississippi; Michoud Assembly Facility (MAF), Louisiana; Marshall Space Flight Center (MSFC), Alabama; White Sands Test Facility (WSTF), New Mexico; Dryden Flight Research Center (DFRC) and Palmdale (Air Force Plant 42, Site 1), California; and the associated contractor facilities. The cessation of SSP operations will necessitate the disposition of all program-related assets. Public comments received on the Draft Programmatic Environmental Assessment (PEA) during the public review period conducted from February 27, 2008, through March 28, 2008, are provided along with responses in Appendix E of the Final PEA.

DATES: July 11, 2008.

ADDRESSES: The Final PEA may be reviewed at the following location:

(a) NASA Headquarters, Library, Room 1J20, 300 E Street, SW., Washington, DC 20546-0001 (202-358-0168).

It also may be examined at the following locations by contacting the pertinent Freedom of Information Act Office:

(b) NASA, George C. Marshall Space Flight Center, Huntsville, AL 35812 (256-544-1837); and

(c) NASA, John F. Kennedy Space Center, FL 32899 (321-867-2745).

Hard copies of the Final PEA also may be viewed at other NASA Centers (see SUPPLEMENTARY INFORMATION below). Limited hard copies of the Final PEA are available, on a first request basis, by contacting Donna L. Holland at the address or telephone number indicated herein. The Final PEA will be available for viewing online at the following address: http://www.nasa.gov/mission_pages/shuttle/main/pea.html.

FOR FURTHER INFORMATION CONTACT: General: Ms. Monica Vest, Government Community Relations Dept., NASA MSFC, CS30, Marshall Space Flight Center, AL 35812, Phone: (256) 544-5560, mail: Monica.M.Vest@nasa.gov.

Technical: Ms. Donna L. Holland, Environmental Engineering Office, NASA MSFC, AS10, Marshall Space Flight Center, AL 35812, Phone: (256) 544-7201, e-mail: Donna.L.Holland@nasa.gov.

SUPPLEMENTARY INFORMATION: NASA has reviewed the Final PEA prepared for the disposition of the SSP's real and personal property and has determined that it represents an accurate and adequate analysis of the scope and level of associated environmental impacts. The Final PEA is hereby incorporated by reference in this FONSI.

Under NASA's Proposed Action, SSP transition and property disposal activities would be expected to occur at the following NASA sites:

—Dryden Flight Research Center, Edwards Air Force Base, California.

—George C. Marshall Space Flight Center, Huntsville, Alabama.

—John F. Kennedy Space Center, Brevard County, Florida.

—John C. Stennis Space Center, Hancock County, Mississippi.

—Johnson Space Center El Paso Forward Operating Location, El Paso, Texas.

—Johnson Space Center Ellington Field, Houston, Texas.

—Johnson Space Center White Sands Test Facility (and the U.S. Army's White Sands Missile Range), Las Cruces, New Mexico.

—Lyndon B. Johnson Space Center, Houston, Texas.

—Langley Research Center, Hampton, Virginia.

—Michoud Assembly Facility, New Orleans, Louisiana.

—Palmdale Air Force Plant 42, Site 1, Palmdale, California.

The Final PEA may be viewed at the following NASA locations by contacting the pertinent Freedom of Information Act Office in writing or by telephoning:

(a) NASA, Ames Research Center, Moffett Field, CA 94035 (650-604-3273);

(b) NASA, Dryden Flight Research Center, Edwards, CA 93523 (661-276-2704);

(c) NASA, Glenn Research Center at Lewis Field, Cleveland, OH 44135 (1-866-404-3642);

(d) NASA, Goddard Space Flight Center, Greenbelt, MD 20771 (301-286-4721);

(e) NASA, John C. Stennis Space Center, MS 39529 (228-688-2118);

(g) NASA, Lyndon B. Johnson Space Center, Houston, TX 77058 (281-483-8612);

(h) NASA, Langley Research Center, Hampton, VA 23681 (757-864-2497);

(i) NASA, Michoud Assembly Facility, New Orleans, LA 70189 (504-257-2629); and

(j) NASA, White Sands Test Facility, Las Cruces, NM 88004 (505-524-5024).

In addition the Final PEA may be examined at:

(k) Jet Propulsion Laboratory, Visitors Lobby, Building 249, 4800 Oak Grove Drive, Pasadena, CA 91109.

Alternatives that were evaluated include the: (1) No-Action Alternative; and (2) the Proposed Action Alternative. Under the No-Action Alternative, NASA would not implement the proposed comprehensive and coordinated effort to disposition SSP property under a structured and centralized SSP process. Instead, the disposition of SSP property would occur on a Center-by-Center and item-by-item basis in the normal course of NASA's ongoing facility and program management. Under the Proposed Action (which is also NASA's Preferred Alternative), NASA would conduct disposition actions for real and personal property using a structured process consisting of a coordinated series of actions in accordance with 41 CFR, Chapter 101, “Federal Property Management Regulations;” Subchapter H, “Utilization and Disposal;” Federal Acquisition Regulation (FAR) Part 45; 48 CFR Part 45, “Government Property”; and NASA FAR Supplement Part 1845, 48 CFR 1845, “Government Property”.

When the SSP disposes of or transfers real or personal property, the responsible NASA Center will evaluate the property using Federal and NASA property management regulations and guidance.

The notice of availability of the Draft PEA was published in the Federal Register on February 28, 2008. Notice also was published in local newspapers serving communities near NASA Centers and installations primarily involved in SSP. NASA received 20 comments on the Draft PEA. Environmental concerns were expressed in the context of general interest and support, historic and cultural property disposition, and natural resource management. These comments are addressed in the Final PEA, and were considered along with responses in reaching NASA's decision.

The analyses of environmental impacts due to activities associated with the disposition of shuttle property revealed minimal to no impact on environmental resources with the exception of the effect on historical resources. The impact to historic resources was found to be moderate, but adverse. The moderate impact is due to the potential for demolition or modification of buildings that will no longer be needed after the retirement of the SSP. NASA believes that the ultimate impact will be moderate because, before any final decision is made about demolishing or modifying any facility, NASA will conduct an appropriate level of environmental and cultural resource analysis. If any such properties are listed in or eligible for listing in the National Register of Historic Places, NASA will take no action that would affect any such property until the National Historic Preservation Act Section 106 process is complete.

On the basis of the evaluations documented in the SSP T&R Final PEA, the environmental impacts associated with the proposed action would not individually or cumulatively have a significant impact on the quality of the human environment. An Environmental Impact Statement need not and will not be prepared, and NASA is issuing this Finding of No Significant Impact.

William H. Gerstenmaier,
Associate Administrator for Space Operations.

[FR Doc. E8-15751 Filed 7-10-08; 8:45 am]

BILLING CODE 7510-13-P